DEPARTMENT OF COMMERCE

National Oceanic and Atmospheric Administration

[RTID 0648-XD814]

Fisheries of the South Atlantic; South Atlantic Fishery Management Council; Public Meeting

AGENCY: National Marine Fisheries Service (NMFS), National Oceanic and Atmospheric Administration (NOAA), Commerce.

ACTION: Notice of a Seminar Series presentation via webinar.

SUMMARY: The South Atlantic Fishery Management Council (Council) will host a presentation on Fish Acoustic Detection Algorithm Research to Identify Fish.

DATES: The webinar presentation will be held on Tuesday, April 9, 2024, from 1 p.m. until 2:30 p.m.

ADDRESSES: The presentation will be provided via webinar. The webinar is open to members of the public. Information, including a link to webinar registration will be posted on the Council's website at: https://safmc.net/safmc-seminar-series/ as it becomes available.

Council address: South Atlantic Fishery Management Council, 4055 Faber Place Drive, Suite 201, N Charleston, SC 29405.

FOR FURTHER INFORMATION CONTACT: Kim Iverson, Public Information Officer, SAFMC; phone: (843) 571-4366; email: kim.iverson@safmc.net.

SUPPLEMENTARY INFORMATION: The Council will host a presentation on Fish Acoustic Detection Algorithm Research (FADAR) by staff from Florida Atlantic University Harbor Branch Oceanographic Institute. The presentation will present information on FADAR, a method to identify grouper and other fish potentially spawning or communicating. FADAR has been used to identify Nassau grouper in the South Atlantic region. A question-and-answer session will follow the presentation. Members of the public will have the opportunity to participate in the discussion. The presentation is for informational purposes only and no management actions will be taken.

Special Accommodations

The meeting is physically accessible to people with disabilities. Requests for auxiliary aids should be directed to the Council office (see ADDRESSES) 3 days prior to the meeting.

Note: The times and sequence specified in this agenda are subject to change.

Authority: 16 U.S.C. 1801 et seq.

Dated: March 19, 2024.
Diane M. DeJames-Daly,
Acting Deputy Director, Office of Sustainable Fisheries, National Marine Fisheries Service.

[FR Doc. 2024-06117 Filed 3-21-24; 8:45 am]

BILLING CODE 3410-22-P